DEPARTMENT OF COMMERCE

International Trade Administration

[Application No. 84-33A12]

Export Trade Certificate of Review

ACTION: Notice of issuance of an amended Export Trade Certificate of Review to Northwest Fruit Exporters (“NFE”), application no. 84-33A12.

SUMMARY: The Secretary of Commerce, through the Office of Trade and Economic Analysis (“OTEA”), issued an amended Export Trade Certificate of Review (“Certificate”) to NFE on November 14, 2022.

FOR FURTHER INFORMATION CONTACT: Joseph Flynn, Director, OTEA, International Trade Administration, by telephone at (202) 482-5131 (this is not a toll-free number) or email at etca@trade.gov.

SUPPLEMENTARY INFORMATION: Title III of the Export Trading Company Act of 1982 (15 U.S.C. 4001-21) (“the Act”) authorizes the Secretary of Commerce to issue Export Trade Certificates of Review. An Export Trade Certificate of Review protects the holder and the members identified in the Certificate from State and Federal government antitrust actions and from private treble damage antitrust actions for the export conduct specified in the Certificate and carried out in compliance with its terms and conditions. The regulations implementing Title III are found at 15 CFR part 325. OTEA is issuing this notice pursuant to 15 CFR 325.6(b), which requires the Secretary of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Certified Content

NFE's Certificate was amended as follows:

1. Added the following companies as new Members of the Certificate within the meaning of section 325.2(l) of the Regulations (15 CFR 325.2(l)) for the following Export Product: fresh sweet cherries:

• Chuy's Cherries LLC, Mattawa, WA

• Columbia Fresh Packing LLC, Kennewick, WA

• Lateral Roots Farm, LLC, Wapato, WA

2. Changed the names of the following Members:

• Chelan Fruit Cooperative (Chelan, WA) changed to Chelan Fruit (Chelan, WA)

• Manson Growers Cooperative (Manson, WA) changed to Manson Growers (Manson, WA)

3. Changed the location of the following Member:

• Stadelman Fruit, L.L.C. (Milton-Freewater, OR, and Zillah, WA) changed to Stadelman Fruit, L.L.C. (Milton-Freewater, OR, Hood River, OR, and Zillah, WA)

4. Changed the Export Product coverage for seven Members:

• Highland Fruit Growers, Inc. changed Export Product coverage from fresh apples to fresh apples and fresh sweet cherries (adding fresh sweet cherries)

• Piepel Premium Fruit Packing LLC changed Export Product coverage from fresh apples to fresh apples and fresh sweet cherries (adding fresh sweet cherries)

• Washington Fruit & Produce Co. changed Export Product coverage from fresh apples to fresh apples and fresh sweet cherries (adding fresh sweet cherries)

• Blue Star Growers, Inc. changed Export Product coverage from fresh apples and fresh pears to fresh pears (dropping fresh apples)

• Stadelman Fruit, L.L.C. changed Export Product coverage from fresh apples, fresh sweet cherries, and fresh pears to fresh apples and fresh pears (dropping fresh sweet cherries)

• AltaFresh L.L.C. dba Chelan Fresh Marketing changed Export Product coverage from fresh apples to fresh apples and fresh sweet cherries (adding fresh sweet cherries)

• Congdon Packing Co. L.L.C. changed Export Product coverage from fresh apples, and fresh pears to fresh apples, fresh sweet cherries, and fresh pears (adding fresh sweet cherries)

NFE's amended Certificate Membership is as follows:

1. Allan Bros., Naches, WA

2. AltaFresh L.L.C. dba Chelan Fresh Marketing, Chelan, WA (for fresh apples and fresh sweet cherries)

3. Apple House Warehouse & Storage, Inc., Brewster, WA

4. Apple King, L.L.C., Yakima, WA

5. Auvil Fruit Co., Inc. dba Gee Whiz II, LLC, Orondo, WA

6. Baker Produce, Inc., Kennewick, WA

7. Blue Bird, Inc., Peshastin, WA

8. Blue Star Growers, Inc., Cashmere, WA (for fresh pears only)

9. Borton & Sons, Inc., Yakima, WA

10. Brewster Heights Packing & Orchards, LP, Brewster, WA

11. Chelan Fruit, Chelan, WA

12. Chiawana, Inc. dba Columbia Reach Pack, Yakima, WA

13. Chuy's Cherries LLC, Mattawa, WA (fresh sweet cherries)

14. CMI Orchards LLC, Wenatchee, WA

15. Columbia Fresh Packing LLC, Kennewick, WA (fresh sweet cherries)

16. Columbia Fruit Packers, Inc., Wenatchee, WA

17. Columbia Valley Fruit, L.L.C., Yakima, WA

18. Congdon Packing Co. L.L.C., Yakima, WA (for fresh apples, fresh sweet cherries, and fresh pears)

19. Cowiche Growers, Inc., Cowiche, WA

20. CPC International Apple Company, Tieton, WA

21. Crane & Crane, Inc., Brewster, WA

22. Custom Apple Packers, Inc., Quincy, and Wenatchee, WA

23. Diamond Fruit Growers, Inc., Odell, OR

24. Domex Superfresh Growers LLC, Yakima, WA

25. Douglas Fruit Company, Inc., Pasco, WA

26. Dovex Export Company, Wenatchee, WA

27. Duckwall Fruit, Odell, OR

28. E. Brown & Sons, Inc., Milton-Freewater, OR

29. Evans Fruit Co., Inc., Yakima, WA

30. E.W. Brandt & Sons, Inc., Parker, WA

31. FirstFruits Farms, LLC, Prescott, WA

32. Frosty Packing Co., LLC, Yakima, WA

33. G&G Orchards, Inc., Yakima, WA

34. Gilbert Orchards, Inc., Yakima, WA

35. Hansen Fruit & Cold Storage Co., Inc., Yakima, WA

36. Henggeler Packing Co., Inc., Fruitland, ID

37. Highland Fruit Growers, Inc., Yakima, WA (for fresh apples and fresh sweet cherries)

38. HoneyBear Growers LLC, Brewster, WA

39. Honey Bear Tree Fruit Co LLC, Wenatchee, WA

40. Hood River Cherry Company, Hood River, OR

41. JackAss Mt. Ranch, Pasco, WA

42. Jenks Bros Cold Storage & Packing, Royal City, WA

43. Kershaw Fruit & Cold Storage, Co., Yakima, WA

44. Lateral Roots Farm, LLC, Wapato, WA (fresh sweet cherries)

45. L & M Companies, Union Gap, WA

46. Legacy Fruit Packers LLC, Wapato, WA

47. Manson Growers, Manson, WA

48. Matson Fruit Company, Selah, WA

49. McDougall & Sons, Inc., Wenatchee, WA

50. Monson Fruit Co., Selah, WA

51. Morgan's of Washington dba Double Diamond Fruit, Quincy, WA

52. Northern Fruit Company, Inc., Wenatchee, WA

53. Olympic Fruit Co., Moxee, WA

54. Oneonta Trading Corp., Wenatchee, WA

55. Orchard View Farms, Inc., The Dalles, OR

56. Pacific Coast Cherry Packers, LLC, Yakima, WA

57. Piepel Premium Fruit Packing LLC, East Wenatchee, WA (for fresh apples and fresh sweet cherries)

58. Pine Canyon Growers LLC, Orondo, WA

59. Polehn Farms, Inc., The Dalles, OR

60. Price Cold Storage & Packing Co., Inc., Yakima, WA

61. Quincy Fresh Fruit Co., Quincy, WA

62. Rainier Fruit Company, Selah, WA

63. River Valley Fruit, LLC, Grandview, WA

64. Roche Fruit, Ltd., Yakima, WA

65. Sage Fruit Company, L.L.C., Yakima, WA

66. Smith & Nelson, Inc., Tonasket, WA

67. Stadelman Fruit, L.L.C., Milton-Freewater, OR, Hood River, OR, and Zillah, WA (for fresh apples and fresh pears only)

68. Stemilt Growers, LLC, Wenatchee, WA

69. Symms Fruit Ranch, Inc., Caldwell, ID

70. The Dalles Fruit Company, LLC, Dallesport, WA

71. Underwood Fruit & Warehouse Co., Bingen, WA

72. Valicoff Fruit Company Inc., Wapato, WA

73. Washington Cherry Growers, Peshastin, WA

74. Washington Fruit & Produce Co., Yakima, WA (for fresh apples and fresh sweet cherries)

75. Western Sweet Cherry Group, LLC, Yakima, WA

76. Whitby Farms, Inc. dba: Farm Boy Fruit Snacks LLC, Mesa, WA

77. WP Packing LLC, Wapato, WA

78. Yakima Fruit & Cold Storage Co., Yakima, WA

79. Zirkle Fruit Company, Selah, WA

The amended Certificate is effective from August 16, 2022, the date on which the application for the Certificate was deemed submitted.

Dated: November 28, 2022.
Joseph Flynn,
Director, Office of Trade and Economic Analysis, International Trade Administration, U.S. Department of Commerce.

[FR Doc. 2022-26217 Filed 12-1-22; 8:45 am]

BILLING CODE 3510-DR-P